DEPARTMENT OF HEALTH AND HUMAN SERVICES

Health Resources and Services Administration

Advisory Council; Notice of Meeting

In accordance with section 10(a)(2) of the Federal Advisory Committee Act (Public Law 92-463), announcement is made of the following National Advisory body scheduled to meet during the month of February 2000.

Name: National Advisory Council on the National Health Service Corps (NHSC).

Date and Time:

February 10-11, 2000; 9 a.m.-noon.

February 12, 2000; 9 a.m.-4:30 p.m.

February 13, 2000; 9 a.m.-10:00 a.m.

Place: Bethesda Marriott Hotel, 5151 Pooks Hill Road, Bethesda, Maryland 20814, Phone: (301) 897-9400.

The meeting is open to the public.

Agenda: Items will include updates on the NHSC and Scholarships and Loan Repayments program; Health Professional Shortage Areas (HPSA) designations; and a report from the Philadelphia field office. The Council will be attending the Capitol Area Rural Health Roundtable on Thursday, February 10, from 3:00 p.m. to 5:00 p.m. A site visit will be on Friday, February 11. Transportation for the public will not be available.

For further information, call Ms. Eve Morrow, Division of National Health Service Corps, at (301) 594-4144.

Dated: January 14, 2000.
Jane M. Harrison,
Director, Division of Policy Review and Coordination.

[FR Doc. 00-1532 Filed 1-21-00; 8:45 am]

BILLING CODE 4160-15-P